DEPARTMENT OF TRANSPORTATION

Federal Motor Carrier Safety Administration

[Docket No. FMCSA-2015-0347]

Qualification of Drivers; Exemption Applications; Vision

Correction

In notice document 2016-00472 beginning on page 1474 in the issue of Tuesday, January 12, 2016, make the following correction:

1. On page 1474, in the third column, in the DATES section, “[Insert date 30 days after date of publication in the Federal Register].” should read “February 11, 2016.”

[FR Doc. C1-2016-00472 Filed 2-10-16; 8:45 am]

BILLING CODE 1501-01-D